DEPARTMENT OF ENERGY

Office of Energy Efficiency and Renewable Energy

10 CFR Part 430

[Docket No. EE-RM/TP-03-100]

RIN 1904-AB43

Energy Conservation Program for Consumer Products: Test Procedure for Clothes Washers

AGENCY: Office of Energy Efficiency and Renewable Energy, Department of Energy.

ACTION: Notice of proposed rulemaking.

SUMMARY: This notice of proposed rulemaking contains an amendment to the test procedure for measuring the energy consumption of clothes washers. The amendment changes one of the spin cycles required for testing the cloth used in the extraction phase of the test procedure by replacing the lowest spin cycle of 50 gravitation (g) force with a spin cycle of 100g. The 50g spin cycle produced inconsistent and unreliable test results. This amendment also includes an additional statistical analysis as a criterion to establish the acceptance of a future lot of the test cloth when it is submitted for testing. These changes will improve the reliability of the test cloth data and the repeatability of the clothes washer test procedure. Because the Department of Energy (DOE or the Department) does not expect this proposed amendment to the rule to receive any significant adverse comments, it is also issuing the amendment as a direct final rule in the “Rules and Regulations” section of this Federal Register.

DATES: Public comments on the amendment proposed herein will be accepted until December 1, 2003.

ADDRESSES: The Department will accept comments, data and information regarding the proposed rule no later than the date provided in the DATES section. Please submit comments, data and information electronically to the following Internet address: clotheswashertestclothtp@ee.doe.gov. Electronic comments must be submitted in WordPerfect, Microsoft Word, PDF, or text (ASCII) format file and avoid the use of special characters or any form of encryption. Comments in electronic format should be identified by the docket number EE-RM/TP-03-100, and wherever possible carry the electronic signature of the author. Absent an electronic signature, comments submitted electronically must be followed and authenticated by submitting the signed original paper document. No telefacsimiles (telefaxes) will be accepted.

Written (paper) comments may be submitted to: Ms. Brenda Edwards-Jones, U.S. Department of Energy, Building Technologies Program, Mailstop EE-2J, Test Procedures for Clothes Washers, Docket Number: EE-RM/TP-03-100, 1000 Independence Avenue, SW., Washington, DC 20585-0121. Telephone: (202) 586-2945. Please submit one signed copy—no telefacsimiles.

You may read copies of the public comments received in the resource room of the appliance office of the Building Technologies Program, room 1J-018 of the Forrestal Building at the U.S. Department of Energy, 1000 Independence Avenue, SW., Washington, DC between the hours of 9 a.m. and 4 p.m., Monday through Friday, except Federal holidays. Please call Ms. Brenda Edwards-Jones at the above telephone number for additional information regarding visiting the resource room. Please note: The Department's Freedom of Information Reading Room (room 1E-190 in the Forrestal Building) is no longer servicing rulemakings.

FOR FURTHER INFORMATION CONTACT: Barbara Twigg or Bryan Berringer, U.S. Department of Energy, Office of Energy Efficiency and Renewable Energy, EE-2J, 1000 Independence Avenue, SW., Washington, DC 20585-0121, (202) 586-9611, e-mail: Barbara.Twigg@ee.doe.gov, or Bryan.Berringer@ee.doe.gov, respectively; or Francine Pinto, Esq., or Thomas DePriest, Esq., U.S. Department of Energy, Office of General Counsel, GC-72, 1000 Independence Avenue, SW., Washington, DC 20585, (202) 586-9507, e-mail: Francine.Pinto@hq.doe.gov, or Thomas.DePriest@hq.doe.gov, respectively.

SUPPLEMENTARY INFORMATION: In this Notice of Proposed Rulemaking (NOPR), DOE proposes an amendment to the test procedure for measuring the energy consumption of clothes washers. The proposed amendment replaces the 50g force spin cycle required for testing the cloth used in the extraction phase of the test procedure with a spin cycle of 100g. Recent tests have disclosed that the slow 50g spin cycle, unlike the test cycles at spin speeds of 100g and above, produced inconsistent results and unreliable data. In this NOPR, DOE also proposes to require the use of a statistical procedure, Analysis of Variance (ANOVA), that can detect the interactive effect between test lots and spin speeds and improve consistency with the baseline data.

Today, the Department is also publishing, elsewhere in this issue of the Federal Register, a direct final rule that makes the change to this test procedure that DOE is proposing in this NOPR. As DOE explains in the preamble of the direct final rule, the Department considers this amendment to be uncontroversial and unlikely to generate any significant adverse comments. If the Department receives no significant adverse comments on the amendment, the direct final rule will become effective on the date specified in that rule, and there will be no further action on this proposal. If DOE receives significant adverse comments on the direct final rule, DOE will withdraw the direct final rule. DOE will then address the public comments in a subsequent final rule based on the rule proposed in this NOPR (which is the same as the rule set forth in the direct final rule). Because the Department will not institute a second comment period on this proposed rule, any parties interested in commenting should do so during this comment period.

For further supplemental information, the detailed rationale, and the rule amendment, see the information provided in the direct final rule in this Federal Register.

List of Subjects in 10 CFR Part 430

Administrative practice and procedure, Energy conservation, Household appliances.

Issued in Washington, DC, on October 27, 2003.
David K. Garman,
Assistant Secretary, Energy Efficiency and Renewable Energy.

[FR Doc. 03-27469 Filed 10-30-03; 8:45 am]

BILLING CODE 6450-01-P